DEPARTMENT OF ENERGY

Federal Energy Regulatory Commission

Notice of Offer of Settlement and Soliciting Comments

September 25, 2000.

Take notice that the following offer of settlement has been filed with the Commission and is available for public inspection:

a. Type: Office of Settlement on New License Application.

b. Project No.: 2069-003.

Project Name: Childs Irving.

Applicant: Arizona Public Service Company.

c. Date Offer of Settlement Filed: September 15, 2000.

d. Location: On Fossil Creek, in Yavapai and Gila counties, Arizona. About 327 acres are included within the Coconino National Forest and about 17 acres are included within the Tonto National Forest.

e. Filed Pursuant to: Rule 602 of the Commission's Rules of Practice and Procedure, 18 CFR 385.602.

f. Applicant's Contact: Larry Johnson, Arizona Public Service Company, P.O. Box 53999, Phoenix, AZ 85072-3999; (480) 350-3131.

g. FERC Contact: Dianne Rodman (202) 219-2830, Email: dianne.rodman@ferc.fed.us

h. Deadline Dates: comments due: October 25, 2000; reply comments due: November 9, 2000.

i. All documents (original and eight copies) should be filed with: David P. Boergers, Secretary, Federal Energy Regulatory Commission, 888 First Street, NE, Washington, DC 20426.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

j. Arizona Public Service Company filed the offer of settlement on behalf of itself and the Yavapai-Apache Nation, American Rivers, the Center for Biological Diversity, Northern Arizona Audubon Society, Arizona Riparian Council, and the Arizona Chapter of the Nature Conservancy. The offer of settlement proposes surrendering the license for the project, removing most of the project structures, and restoring the site. Comments and reply comments on the offer of settlement are due on the dates listed above. Interested entities that have already filed comments on the offer of settlement do not need to file their comments again for them to be considered by the Commission.

k. Copies of the offer of settlement are available for inspection and reproduction at the Commission's Public Reference Room, located at 888 First Street, NE, Room 2A, Washington, DC 20426, or by calling (202) 208-1371. This filing may be viewed on http://www.ferc.fed.us/online/rims.htm (call 202-208-2222 for assistance) or at the address listed in item f above.

David P. Boergers,
Secretary.

[FR Doc. 00-24989 Filed 9-28-00; 8:45 am]

BILLING CODE 6717-01-M